DEPARTMENT OF THE INTERIOR

Senior Executive Service Performance Review Board Membership

AGENCY: Office of Inspector General for the Department of the Interior.

ACTION: Notice.

SUMMARY: This notice sets forth the names and titles of the current membership of the Council of the Inspectors General on Integrity and Efficiency (CIGIE) Performance Review Board as of October 1, 2009.

DATES: Effective Date: October 16, 2009.

FOR FURTHER INFORMATION CONTACT: Individual Offices of Inspectors General at the telephone numbers listed below.

SUPPLEMENTARY INFORMATION:

I. Background

The Inspector General Act of 1978, as amended, created the Offices of Inspectors General as independent and objective units to conduct and supervise audits and investigations relating to Federal programs and operations. The Inspector General Reform Act of 2008 established the Council of the Inspectors General on Integrity and Efficiency (CIGIE) to address integrity, economy, and effectiveness issues that transcend individual Government agencies; and increase the professionalism and effectiveness of personnel by developing policies, standards, and approaches to aid in the establishment of a well trained and highly skilled workforce in the Offices of Inspectors General. The CIGIE is an interagency council whose executive chair is the Deputy Director for Management, Office of Management and Budget, and is comprised principally of the 69 Inspectors General (IGs).

II. CIGIE Performance Review Board

Under 5 U.S.C. 4314(c)(1)-(5), and in accordance with regulations prescribed by the Office of Personnel Management, each agency is required to establish one or more Senior Executive Service (SES) performance review boards. The purpose of these boards is to review and evaluate the initial appraisal of a senior executive's performance by the supervisor, along with any recommendations to the appointing authority relative to the performance of the senior executive. The current members of the Council of the Inspectors General on Integrity and Efficiency Performance Review Board, as of October 1, 2009, are as follows:

Agency for International Development

Phone Number: (202) 712-1170.

CIGIE Liaison—Thereasa L. Lyles (202) 712-1393.

Michael G. Carroll—Deputy Inspector General.

Joe Farinella (SFS)—Assistant Inspector General for Audit.

Melinda Dempsey—Deputy Assistant Inspector General for Audit.

Adrienne Rish—Assistant Inspector General for Investigations.

Howard I. Hendershot—Deputy Assistant Inspector General for Investigations.

Paula Hayes—Assistant Inspector General for Management.

Alvin A. Brown—Assistant Inspector General, Millennium Challenge Corporation.

Lisa Goldfluss—Legal Counsel.

Department of Agriculture

Phone Number: (202) 720-8001.

CIGIE Liaison—Cheryl Viani (202) 720-8001.

Kathleen S. Tighe—Deputy Inspector General.

David R. Gray—Counsel to the Inspector General.

Robert W. Young, Jr.—Assistant Inspector General for Audit.

Rod DeSmet—Deputy Assistant Inspector General for Audit.

Gilroy Harden—Deputy Assistant Inspector General for Audit.

Tracy A. LaPoint—Deputy Assistant Inspector General for Audit.

Karen L. Ellis—Deputy Assistant Inspector General for Investigations.

Suzanne M. Murrin—Assistant Inspector General for Management.

Department of Commerce

Phone Number: (202) 482-4661.

CIGIE Liaison—Lisa Allen (202) 482-5422.

Edward L. Blansitt—Deputy Inspector General.

Wade Green, Jr.—Counsel to the Inspector General.

Judith J. Gordon—Principal Assistant Inspector General for Audit and Evaluation.

Brett M. Baker—Assistant Inspector General for Audit.

Allen Crawley—Assistant Inspector General for Systems Acquisition and IT Security.

Ronald C. Prevost—Assistant Inspector General for Economic and Statistical Program Assessment.

Scott Berenberg—Assistant Inspector General for Investigations.

Department of Defense

Phone Number: (703) 604-8324.

CIGIE Liaison—John R. Crane (703) 604-8324.

Michael Child—Chief of Staff.

James Burch—Deputy Inspector General for Investigations.

Patricia Brannin—Deputy Inspector General for Intelligence.

Donald Horstman—Deputy Inspector General for Administrative Investigations.

Charles Beardeall—Deputy Inspector General for Policy and Oversight.

John Crane—Assistant Inspector General for Communications and Congressional Liaison.

Department of Education

Phone Number: (202) 245-6900.

CIGIE Liaison—Theresa Clark (202) 245-6340.

Mary Mitchelson—Acting Inspector General and Deputy Inspector General.

Wanda Scott—Assistant Inspector General for Evaluations, Inspections and Management Services.

Keith West—Assistant Inspector General for Audit Services.

Patrick Howard—Deputy Assistant Inspector General for Audit Services.

William Hamel—Assistant Inspector General for Investigative Services.

Charles Coe—Assistant Inspector General for Information Technology and Computer Crimes Investigation.

Marta Erceg—Counsel to the Inspector General.

Department of Energy

Phone Number: (202) 586-4393.

CIGIE Liaison—Juston Fontaine (202) 586-1959.

John Hartman—Assistant Inspector General for Investigations.

Rickey Hass—Deputy Inspector General for Audit Services.

Linda Snider—Assistant Inspector General for Resource Management.

Sanford Parnes—Counsel to the Inspector General.

George Collard—Assistant Inspector General for Performance Audits.

Department of Health and Human Services

Phone Number: (202) 619-3148.

CIGIE Liaison—Elise Stein (202) 619-2686.

Larry Goldberg—Principal Deputy Inspector General.

Lewis Morris—Chief Counsel to the Inspector General.

Joseph Green—Assistant Inspector General for Financial Management and Regional Operations.

George Reeb—Assistant Inspector General for Centers for Medicare and Medicaid Audits.

Joseph S. Shellenberger—Deputy Inspector General for Management and Policy.

Department of Homeland Security

Phone Number: (202) 254-4100.

CIGIE Liaison—Denise S. Johnson (202) 254-4100.

James L. Taylor—Deputy Inspector General.

Matt Jadacki—Deputy Inspector General for Emergency Management Oversight.

Mark McLachlan—Assistant Deputy Inspector General for Emergency Management Oversight.

Richard N. Reback—Counsel to the Inspector General.

Anne L. Richards—Assistant Inspector General for Audits.

Edward M. Stulginsky—Deputy Assistant Inspector General for Audits.

Sondra McCauley—Deputy Assistant Inspector General for Planning and Oversight, Audits.

Carlton I. Mann—Assistant Inspector General for Inspections.

Thomas M. Frost—Assistant Inspector General for Investigations.

James Gaughran—Deputy Assistant Inspector General for Investigations.

Frank Deffer—Assistant Inspector General for Information Technology.

Charles Edwards—Assistant Inspector General for Administration.

Department of Housing and Urban Development

Phone Number: (202) 708-0430.

CIGIE Liaison—Helen Albert (202) 708-0614, Ext. 8187.

Michael P. Stephens—Deputy Inspector General.

James A. Heist—Assistant Inspector General for Audit.

John McCarty—Deputy Assistant Inspector General for Inspections and Evaluations.

Lester Davis—Deputy Assistant Inspector General for Investigations.

Randy McGinnis—Deputy Assistant Inspector General for Audit.

Helen Albert—Deputy Assistant Inspector General for Management and Policy.

Department of the Interior

Phone Number: (202) 208-5745.

CIGIE Liaison—Deborah Holmes (202) 208-5745.

Stephen Hardgrove—Chief of Staff.

Kimberly Elmore—Assistant Inspector General for Audits, Inspections and Evaluations.

Robert Romanyshyn—Deputy Assistant Inspector General for Financial Audits.

John Dupuy—Assistant Inspector General for Investigations.

Renee Pettis—Assistant Inspector General for Management.

Eddie Saffarinia—Assistant Inspector General for Information Technology.

Bruce Delaplaine—General Counsel.

Department of Justice

Phone Number: (202) 514-3435.

CIGIE Liaison—Cynthia Schnedar (202) 514-3435.

Paul K. Martin—Deputy Inspector General.

Gail A. Robinson—General Counsel.

Raymond J. Beaudet—Assistant Inspector General for Audit.

Carol F. Ochoa—Assistant Inspector General for Oversight and Review.

Gregory T. Peters—Assistant Inspector General for Management and Planning.

Thomas F. McLaughlin—Assistant Inspector General for Investigations.

Michael D. Gulledge—Assistant Inspector General for Evaluation and Inspections.

Caryn A. Marske—Deputy Assistant Inspector General for Audit.

George L. Dorsett—Deputy Assistant Inspector General for Investigations.

Department of Labor

Phone Number: (202) 693-5100.

CIGIE Liaison—Constance Christakos (202) 693-5238.

Daniel R. Petrole—Acting Inspector General.

Nancy F. Ruiz de Gamboa—Assistant Inspector General for Management and Policy.

Thomas F. Farrell—Assistant Inspector General for Labor Racketeering and Fraud Investigations.

Elliot P. Lewis—Assistant Inspector General for Audit.

Michael A. Rapoini—Deputy Assistant Inspector General for Audit.

Howard L. Shapiro—Counsel to the Inspector General.

Richard Clark—Deputy Assistant Inspector General for Labor Racketeering and Fraud Investigations.

Eugene Cunningham—Assistant Inspector General for Inspections and Special Investigation.

Department of State and the Broadcasting Board of Governors

Phone Number: (202) 663-0340.

CIGIE Liaison—Michael Wolfson (703) 284-2710.

Robert B. Peterson—Assistant Inspector General for Inspections.

Evelyn R. Klemstine—Deputy Assistant Inspector General for Audits.

Department of Transportation

Phone Number: (202) 366-1959.

CIGIE Liaison—Nathan P. Richmond (202) 366-1959.

Calvin L. Scovel III—Inspector General.

David A. Dobbs—Deputy Inspector General.

Brian A. Dettelbach—Assistant Inspector General for Legal, Legislative, and External Affairs.

Susan L. Dailey—Assistant Inspector General for Administration.

Ann M. Calvaresi Barr—Principal Assistant Inspector General for Auditing and Evaluation.

Lou E. Dixon—Assistant Inspector General for Aviation and Special Program Audits.

Matthew E. Hampton—Deputy Assistant Inspector General for Aviation and Special Program Audits.

Rebecca C. Leng—Assistant Inspector General for Financial and Information Technology Audits.

Joseph W. Come´—Assistant Inspector General for Surface and Maritime Programs.

Rosalyn G. Millman—Deputy Assistant Inspector General for Surface and Maritime Programs.

David E. Tornquist—Assistant Inspector General for Amtrak, High Speed Rail and Economic Analysis.

Mark H. Zabarsky—Assistant Inspector General for Acquisition and Procurement Audits.

Timothy M. Barry—Principal Assistant Inspector General for Investigations.

Richard C. Beitel, Jr.—Assistant Inspector General for Special Investigations and Analysis.

Department of the Treasury

Phone Number: (202) 622-1090.

CIGIE Liaison—John Czajkowksi (202) 927-5835.

Dennis S. Schindel—Deputy Inspector General.

Richard Delmar—Counsel to the Inspector General.

John Czajkowsk—Assistant Inspector General for Management.

P. Brian Crane—Assistant Inspector General for Investigations.

Marla Freedman—Assistant Inspector General for Audit.

Robert Taylor—Deputy Assistant Inspector General for Audit (Program Audits).

Joel Grover—Deputy Assistant Inspector General for Audit (Financial Management Audits).

Treasury Inspector General for Tax Administration/Department of the Treasury

Phone Number: (202) 622-6500.

CIGIE Liaison—John Chase (202) 927-7053.

Margaret Begg—Assistant Inspector General for Audit (Compliance and Enforcement Operations).

Timothy Camus—Assistant Inspector General for Investigations.

Michael Delgado—Assistant Inspector General for Investigations.

Alan Duncan—Assistant Inspector General (Security & IT Services).

Roderick Fillinger—Chief Counsel.

Gregory Holley—Deputy Assistant Inspector General for Investigations.

Richard Holmgren—Deputy Inspector General for Inspections and Evaluations.

Joseph Hungate—Principal Deputy Inspector General.

Steven Jones—Deputy Inspector General for Investigations.

Daniel Devlin—Assistant Inspector General for Audit.

Larry Koskinen—Associate Inspector General for Mission Support.

Michael McKenney—Assistant Inspector General for Audit (Wage & Investment Income Programs).

Nancy Nakamura—Assistant Inspector General for Audit (Headquarters Operations and Exempt Organizations Program).

Michael Phillips—Deputy Inspector General for Audit.

Department of Veterans Affairs

Phone Number: (202) 565-8620.

CIGIE Liaison—Joanne Moffett (202) 461-4720.

Richard Griffin—Deputy Inspector General.

Maureen Regan—Counselor to the Inspector General.

James O'Neill—Deputy Assistant Inspector General for Investigations.

Belinda Finn—Assistant Inspector General for Audits and Evaluations.

Richard Ehrlichman—Assistant Inspector General for Management and Administration.

John Daigh—Assistant Inspector General for Healthcare Inspections.

Environmental Protection Agency

Phone Number: (202) 566-0847.

CIGIE Liaison—Eileen McMahon (202) 566-2546.

Mark Bialek—Associate Deputy Inspector General and Counsel to the Inspector General.

Eileen McMahon—Assistant Inspector General for Congressional, Public Affairs and Management.

Melissa Heist—Assistant Inspector General for Audit.

Wade Najjum—Assistant Inspector General for Program Evaluation.

Stephen Nesbitt—Assistant Inspector General for Investigations.

Patricia Hill—Assistant Inspector General for Mission Systems.

Federal Trade Commission

Phone Number: (202) 326-2800.

CIGIE Liaison—Cynthia Hogue (202) 326-2800.

John Seeba—Inspector General.

General Services Administration

Phone Number: (202) 501-0450.

CIGIE Liaison—Sarah S. Breen (202) 219-1351.

Robert C. Erickson—Deputy Inspector General.

Richard P. Levi—Counsel to the Inspector General.

Theodore R. Stehney—Assistant Inspector General for Auditing.

Regina M. O'Brien—Deputy Assistant Inspector General for Auditing.

Gregory G. Rowe—Assistant Inspector General for Investigations.

Geoffrey Cherrington—Deputy Assistant Inspector General for Investigations.

National Aeronautics and Space Administration

Phone Number: (202) 358-1220.

CIGIE Liaison—Renee Juhans (202) 358-1712.

Thomas Howard—Deputy Inspector General.

Frank LaRocca—Counsel to the Inspector General.

Kevin Winters—Assistant Inspector General for Investigations.

Alan Lamoreaux—Assistant Inspector General for Management and Policy.

National Archives and Records Administration

Phone Number: (301) 837-3000.

CIGIE Liaison—John Simms (301) 837-1966.

Paul Brachfeld—Inspector General.

National Endowment for the Humanities

Phone Number: (202) 606-8350.

CIGIE Liaison—Laura M.H. Davis (202) 606-8574.

Sheldon Bernstein—Inspector General.

National Science Foundation

Phone Number: (703) 292-7100.

CIGIE Liaison—Susan Carnohan (703) 292-5011 & Maury Pully (703) 292-5059.

Allison C. Lerner—Inspector General.

Thomas (Tim) Cross—Deputy Inspector General.

Deborah H. Cureton—Assistant Inspector General for Audit.

Peggy Fischer—Assistant Inspector General for Investigations.

Peace Corps

Phone Number: (202) 692-2900.

CIGIE Liaison—Kathy Buller (703) 692-2916.

Kathy Buller—Inspector General (Foreign Service).

Nuclear Regulatory Commission

Phone Number: (301) 415-5930.

CIGIE Liaison—Deborah S. Huber (301) 415-5930.

David C. Lee—Deputy Inspector General.

Stephen D. Dingbaum—Assistant Inspector General for Audits.

Joseph A. McMillan—Assistant Inspector General for Investigations.

Office of Personnel Management

Phone Number: (202) 606-1200.

CIGIE Liaison—Gary R. Acker (202) 606-2444.

Norbert E. Vint—Deputy Inspector General.

Terri Fazio—Assistant Inspector General for Management.

Michael R. Esser—Assistant Inspector General for Audits.

Michelle B. Schmitz—Assistant Inspector General for Investigations.

J. David Cope—Assistant Inspector General for Legal Affairs.

Jeffery E. Cole—Deputy Assistant Inspector General for Audits.

Railroad Retirement Board

Phone Number: (312) 751-4690.

CIGIE Liaison—Jill Roellig (312) 751-4993.

William Tebbe—Assistant Inspector General for Investigations.

Letty Benjamin Jay—Assistant Inspector General for Audit.

Small Business Administration

Phone Number: (202) 205-6586.

CIGIE Liaison—Robert F. Fisher (202) 205-6583.

Peter L. McClintock—Deputy Inspector General.

Glenn P. Harris—Counsel to the Inspector General.

Debra S. Ritt—Assistant Inspector General for Auditing.

Daniel J. O'Rourke—Assistant Inspector General for Investigations.

Robert F. Fisher—Assistant Inspector General for Management and Policy.

Social Security Administration

Phone Number: (410) 966-8385.

CIGIE Liaison—Misha Kelly (202) 358-6319.

Wade V. Walters, IV—Assistant Inspector General for External Relations.

Steven L. Schaeffer—Assistant Inspector General for Audit.

Richard A. Rohde—Assistant Inspector General for Investigations.

Jonathan Lasher—Counsel to the Inspector General.

Special Inspector General for Troubled Asset Relief Program

Phone Number: (202) 622-2658.

CIGIE Liaison—(202) 622-2658.

Kevin Puvalowski—Deputy Special Inspector General.

Eileen Ennis—Deputy Special Inspector General, Operations.

Christopher Sharpley—Deputy Special Inspector General, Investigations.

Barry Holman—Deputy Special Inspector General, Audit.

Bryan Saddler—Chief Counsel.

United States Postal Service

Phone Number: (703) 248-2300.

CIGIE Liaison—Agapi Doulaveris (703) 248-2286.

Elizabeth Martin—Assistant Inspector General, General Counsel.

Gladis Griffith—Deputy Assistant Inspector General, General Counsel.

Ron Stith—Assistant Inspector General, Mission Support.

Mary Demory—Deputy Assistant Inspector General, Business Operations.

LaVan Griffith—Deputy Assistant Inspector General, Technical Operations.

David Sidransky—Chief Information Officer.

William Siemer—Assistant Inspector General for Investigations.

Randy Stone—Deputy Assistant Inspector General for Investigations—Field Operations.

Yvette Savoy—Deputy Assistant Inspector General for Investigations—Headquarters.

Tammy Whitcomb—Assistant Inspector General for Audits.

Robert Batta—Deputy Assistant Inspector General for Audits—Mission Operations.

John Cihota—Deputy Assistant Inspector General for Audits—Financial Accountability.

Darrell Benjamin—Deputy Assistant Inspector General for Audits—Revenue and Systems.

Mohammad Adra—Assistant Inspector General for Risk Analysis Research Center.

Mary L. Kendall,
Acting Inspector General, Department of the Interior and Chair, CIGIE Professional Development Committee.

[FR Doc. E9-24905 Filed 10-15-09; 8:45 am]

BILLING CODE 3110-01-P